FEDERAL COMMUNICATIONS COMMISSION

47 CFR Part 73

[DA 01-690; MM Docket No. 00-208, RM-9977; MM Docket No. 00-209, RM-9978; MM Docket No. 00-211, RM-9993]

Radio Broadcasting Services; Huachuca City, AZ; Rio Rico, AZ; Pine Level, AL

AGENCY: Federal Communications Commission.

ACTION: Final rule.

SUMMARY: This document grants three proposals that allot new channels to Huachuca City, Arizona; Rio Rico, Arizona; and Pine Level, Alabama, as described in the Supplementary Information, below. Filing windows for Channel 232A at Huachuca City, Arizona; Channel 300A at Rio Rico, Arizona; and Channel 248A at Pine Level, Alabama, will not be opened at this time. Instead, the issue of opening these allotments for auction will be addressed by the Commission in a subsequent order. With this action, these docketed proceeding are terminated.

DATES: Effective April 30, 2001.

FOR FURTHER INFORMATION CONTACT: Nancy Joyner, Mass Media Bureau, (202) 418-2180.

SUPPLEMENTARY INFORMATION: This is a synopsis of the Commission's consolidated Report and Order, MM Docket No. 00-208; MM Docket No. 00-209; MM Docket No. 00-211, adopted March 7, 2001, and released March 16, 2001. The full text of this Commission decision is available for inspection and copying during normal business hours in the FCC's Reference Information Center (Room CY-A257) 445 Twelfth Street, SW., Washington, DC. The complete text of this decision may also be purchased from the Commission's copy contractor, International Transcription Service, Inc., 1231 20th Street, NW., Washington, DC 20036, (202) 857-3800.

The Commission, at the request of Santa Cruz Broadcasting, allots Channel 232A to Huachuca City, Arizona, as the community's first local aural transmission service. See 65 FR 67689, November 13, 2000. Channel 232A is allotted to Huachucha City with a site restriction 10.9 kilometers (6.8 miles) southwest at coordinates 31-32-30 NL and 110-23-20 WL. Additionally, as Huachuca City is located within 320 kilometers (199 miles) of the U.S.-Mexico border, concurrence to the allotment of Channel 232A to that community by the Mexican government has been requested, as a specially negotiated, restricted allotment, but has not been received. Therefore, if a construction permit is granted prior to receipt of formal concurrence in the allotment by the Mexican government, the authorization will include the following condition: “Operation with the facilities specified herein is subject to modification, suspension or termination without right to a hearing, if found by the Commission to be necessary in order to conform to the USA-Mexico FM Broadcast Agreement.”

The Commission, at the request of Santa Cruz Broadcasting, allots Channel 300A to Rio Rico, Arizona, as the community's first local aural transmission service. See 65 FR 67689, November 13, 2000. Channel 300A is allotted to Rio Rico without a site restriction at coordinates 31-24-00 NL and 110-57-30 WL. Additionally, as Rio Rico is located within 320 kilometers (199 miles) of the U.S.-Mexico border, concurrence to the allotment of Channel 300A to that community by the Mexican government has been requested, as a specially negotiated, restricted allotment, but has not been received. Therefore, if a construction permit is granted prior to receipt of formal concurrence in the allotment by the Mexican government, the authorization will include the following condition: “Operation with the facilities specified herein is subject to modification, suspension or termination without right to a hearing, if found by the Commission to be necessary in order to conform to the USA-Mexico FM Broadcast Agreement.”

The Commission, at the request of Susannah Lane Hodges, allots Channel 248A to Pine Level, Alabama, as the community's first local aural transmission service. See 65 FR 67690, November 13, 2000. Channel 248A is allotted to Pine Level without a site restriction at coordinates 32-04-04 NL and 86-03-35 WL.

List of Subjects in 47 CFR Part 73

Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Arizona, is amended by adding Huachuca City, Channel 232A and Rio Rico, Channel 300A.

3. Section 73.202(b), the Table of FM Allotments under Alabama, is amended by adding Pine Level, Channel 248A.

Federal Communications Commission.
John A. Karousos,
Chief, Allocations Branch, Policy and Rules Division, Mass Media Bureau.

[FR Doc. 01-7610 Filed 3-27-01; 8:45 am]

BILLING CODE 6712-01-P